DEPARTMENT OF COMMERCE

International Trade Administration

[A-557-827, A-455-808, A-583-875, A-489-852]

Dioctyl Terephthalate From Malaysia, Poland, Taiwan, and the Republic of Türkiye: Postponement of Preliminary Determinations in the Less-Than-Fair-Value Investigations

AGENCY: Enforcement and Compliance, International Trade Administration, Department of Commerce.

DATES: Applicable July 24, 2024.

FOR FURTHER INFORMATION CONTACT: Nathan Araya (Malaysia), Colin Thrasher (Poland), Brian Smith (Taiwan), and Dennis McClure (the Republic of Türkiye (Türkiye)), AD/CVD Operations, Enforcement and Compliance, International Trade Administration, U.S. Department of Commerce, 1401 Constitution Avenue NW, Washington, DC 20230; telephone: (202) 482-3401, (202) 482-3004, (202) 482-1766, and (202) 482-5973, respectively.

SUPPLEMENTARY INFORMATION:

Background

On April 15, 2024, the U.S. Department of Commerce (Commerce) initiated less-than-fair-value (LTFV) investigations of imports of dioctyl terephthalate from Malaysia, Poland, Taiwan, and Türkiye.¹ Currently, the preliminary determinations are due no later than September 3, 2024.

¹ See Dioctyl Terephthalate from Malaysia, Poland, Taiwan, and the Republic of Türkiye: Initiation of Less-Than-Fair-Value Investigations, 89 FR 29286 (April 22, 2024).

Postponement of Preliminary Determinations

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

Malaysia, Poland, Taiwan, and Türkiye

On July 16, 2024, the petitioner ² submitted a timely request that Commerce postpone the preliminary determinations in the LTFV investigations.³ The petitioner stated that it requested postponement to provide Commerce with the time “to develop a full record in these investigations.” ⁴

² The petitioner is Eastman Chemical Company.

³ See Petitioner's Letter, “Request to Postpone Preliminary Antidumping Duty Determinations,” dated July 16, 2024.

⁴ Id.

For the reason stated above and because there are no compelling reasons to deny the request, Commerce, in accordance with section 733(c)(1)(A) of the Act, is postponing the deadline for the preliminary determinations by 50 days (i.e., 190 days after the date on which these investigations were initiated). As a result, Commerce will issue its preliminary determinations no later than October 22, 2024. In accordance with section 735(a)(1) of the Act and 19 CFR 351.210(b)(1), the deadline for the final determinations of these investigations will continue to be 75 days after the date of the preliminary determinations, unless postponed at a later date.

This notice is issued and published pursuant to section 733(c)(2) of the Act and 19 CFR 351.205(f)(1).

Dated: July 18, 2024.
Ryan Majerus,
Deputy Assistant Secretary for Policy and Negotiations, performing the non-exclusive functions and duties of the Assistant Secretary for Enforcement and Compliance.

[FR Doc. 2024-16235 Filed 7-23-24; 8:45 am]

BILLING CODE 3510-DS-P